DEPARTMENT OF VETERANS AFFAIRS

Advisory Committee on Homeless Veterans, Notice of Meeting

The Department of Veterans Affairs (VA) gives notice under Public Law 92-463 (Federal Advisory Committee Act) that a meeting of the Advisory Committee on Homeless Veterans will be held from Monday, December 15, 2003, through Tuesday, December 16, 2003, at the Marriott San Diego Hotel, Carlsbad Room, 333 West Harbor Drive, San Diego, CA 98101. On December 15, the meeting will convene at 1 p.m. and end at 4 p.m. and on December 16 the meeting will convene at 8 a.m. and end at 4 p.m. The meeting is open to the public.

The purpose of the Committee is to advise the Secretary of Veterans Affairs with an on-going assessment of the effectiveness of the policies, organizational structures, and services of the Department in assisting homeless veterans. The Committee shall assemble and review information relating to the needs of homeless veterans and provide on-going advice on the most appropriate means of providing assistance to homeless veterans. The Committee will make recommendations to the Secretary regarding such activities.

On December 15, the Committee will hear from key VA leaders from the San Diego area in regards to issues and developments affecting veterans' health and benefits. On December 16, the committee will receive updates on veterans' health, employment, dental care, multi-family housing, community participation and technical assistance efforts to assist homeless veterans.

Those wishing to attend the meeting should contact Mr. Pete Dougherty, Department of Veterans Affairs, at (202) 273-5764. No time will be allocated for receiving oral presentations during the public meeting. However, the Committee will accept written comments from interested parties on issues affecting homeless veterans. Such comments should be referred to the Committee at the following address: Advisory Committee on Homeless Veterans, Homeless Veterans Programs Office (075D), U.S. Department of Veterans Affairs, 810 Vermont Avenue, NW., Washington, DC 20420.

Dated: November 21, 2003.
By Direction of the Secretary:
E. Phillip Riggin,
Committee Management Officer.

[FR Doc. 03-30139 Filed 12-3-03; 8:45 am]

BILLING CODE 8320-01-M